DEPARTMENT OF ENERGY

Federal Energy Regulatory Commission

[Docket No. RP03-504-000]

ANR Pipeline Company; Notice of Proposed Changes in FERC Gas Tariff

June 5, 2003.

Take notice that on May 30, 2003, ANR Pipeline Company (ANR) tendered for filing as part of its FERC Gas Tariff, Second Revised Volume No. 1 and Original Volume No. 2, the following tariff sheets proposed to become effective April 1, 2003:

Second Revised Volume No. 1

Second Revised Sheet No. 2G

Original Volume No. 2

Tenth Revised Sheet No. 6

Twelfth Revised Sheet No. 7

First Revised Sheet No. 1334

First Revised Sheet No. 1359

ANR states that the above-referenced tariff sheets are being filed to cancel ANR's Rate Schedules X-115 and X-116 as approved by Commission order issued on January 30, 2003.

Any person desiring to be heard or to protest said filing should file a motion to intervene or a protest with the Federal Energy Regulatory Commission, 888 First Street, NE., Washington, DC 20426, in accordance with sections 385.214 or 385.211 of the Commission's Rules and Regulations. All such motions or protests must be filed in accordance with § 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or

TTY, contact (202) 502-8659. The Commission strongly encourages electronic filings. See 18 CFR 385.2001(a)(1)(iii) and the instructions on the Commission's Web site under the “e-Filing” link.

Comment Date: June 11, 2003.

Magalie R. Salas,
Secretary.

[FR Doc. 03-14764 Filed 6-10-03; 8:45 am]

BILLING CODE 6717-01-P